DEPARTMENT OF TRANSPORTATION

Federal Aviation Administration

14 CFR Part 39

[Docket No. FAA-2025-0207; Project Identifier MCAI-2024-00455-T; Amendment 39-23054; AD 2025-11-08]

RIN 2120-AA64

Airworthiness Directives; Airbus SAS Airplanes

AGENCY: Federal Aviation Administration (FAA), DOT.

ACTION: Final rule.

SUMMARY: The FAA is adopting a new airworthiness directive (AD) for all Airbus SAS Model A350-941 airplanes. This AD was prompted by an inspection that found several anodic burns on the main landing gear (MLG) bogie beam axles following a high velocity oxygen-fuel (HVOF) stripping process. This AD requires replacement of affected MLG bogie beam axles and prohibits the installation of affected parts. The FAA is issuing this AD to address the unsafe condition on these products.

DATES: This AD is effective July 11, 2025.

The Director of the Federal Register approved the incorporation by reference of a certain publication listed in this AD as of July 11, 2025.

ADDRESSES:

AD Docket: You may examine the AD docket at regulations.gov under Docket No. FAA-2025-0207; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0207.

FOR FURTHER INFORMATION CONTACT: Dan Rodina, Aviation Safety Engineer, FAA, 2200 South 216th St., Des Moines, WA 98198; telephone 206-231-3225; email dan.rodina@faa.gov.

SUPPLEMENTARY INFORMATION:

Background

The FAA issued a notice of proposed rulemaking (NPRM) to amend 14 CFR part 39 by adding an AD that would apply to all Airbus SAS Model A350-941 airplanes. The NPRM was published in the Federal Register on February 20, 2025 (90 FR 9955). The NPRM was prompted by AD 2024-0156, dated August 13, 2024, issued by EASA, which is the Technical Agent for the Member States of the European Union (EASA AD 2024-0156) (also referred to as “the MCAI”). The MCAI states that during an inspection conducted at an A350 MLG bogie beam axle supplier, several anodic burns were observed following an HVOF stripping process. Additional MLG bogie beam axle inspections using the same HVOF stripping process at the same facility revealed similar findings. The analysis revealed a detrimental impact on the fatigue life limit of the affected parts. This condition, if not corrected, could lead to structural failure of the MLG and consequent collapse, possibly resulting in damage to the airplane and injury to the occupants.

In the NPRM, the FAA proposed to require replacement of affected MLG bogie beam axles and prohibit the installation of affected parts, as specified in EASA AD 2024-0156. The FAA is issuing this AD to address the unsafe condition on these products.

You may examine the MCAI in the AD docket at regulations.gov under Docket No. FAA-2025-0207.

Discussion of Final Airworthiness Directive

Comments

The FAA received comments from the Air Line Pilots Association, International, who supported the NPRM without change.

The FAA also received comments from ProTech Aero Services Limited, who requested the FAA confirm that the proposed AD would allow the use of later-approved revisions of the material specified in EASA AD 2024-0156, as acceptable for compliance with the AD requirements.

This AD does allow the use of later-approved revisions of the material referenced in EASA AD 2024-0156 as acceptable for compliance with the required actions. This AD adopts the “Ref. Publications” section of EASA AD 2024-0156, which includes the current version of the referenced material as well as later approved revisions.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on this product. This AD is adopted as proposed in the NPRM.

Material Incorporated by Reference Under 1 CFR Part 51

EASA AD 2024-0156 specifies procedures for replacing the affected MLG bogie beam axle (i.e., an MLG wheel axle having part number 55-3575047-00 and a serial number listed in Appendix 1 of EASA AD 2024-0156) with a serviceable part. The replacement includes inspecting bogie beam bushes to determine the diameter and inspecting for surface damage and applicable repairs. EASA AD 2024-0156 also approves the replacement of an MLG or MLG bogie beam equipped with an affected part with an MLG or MLG bogie beam having a serviceable part installed as an alternative method for replacing an affected MLG wheel axle. EASA AD 2024-0156 also prohibits the installation of affected parts and prohibits installation of an MLG having an affected part installed. This material is reasonably available because the interested parties have access to it through their normal course of business or by the means identified in the ADDRESSES section.

Costs of Compliance

The FAA estimates that this AD affects 36 airplanes of U.S. registry. The FAA estimates the following costs to comply with this AD:

Estimated Costs for Required Actions
Action | Labor cost | Parts cost | Cost per product | Cost on U.S. operators
Replacement | Up to 48 work-hours × $85 per hour = $4,080 | Unknown * | Up to $4,080 * | Up to $146,880.*
* The FAA has received no data on which to estimate the cost for the parts specified in this AD.

On-Condition Costs

The FAA has not included a cost estimate for the on-condition repair of any bogie beam bushes found with damage during the axle replacement because the extent of damage found could vary significantly from airplane to airplane. The FAA has no way of determining the cost to repair any damage or the number of airplanes that may require repair.

The FAA has included all known costs in its cost estimate. According to the parts manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-11-08 Airbus SAS: Amendment 39-23054; Docket No. FAA-2025-0207; Project Identifier MCAI-2024-00455-T.

(a) Effective Date

This airworthiness directive (AD) is effective July 11, 2025.

(b) Affected ADs

None.

(c) Applicability

This AD applies to all Airbus SAS Model A350-941 airplanes, certificated in any category.

(d) Subject

Air Transport Association (ATA) of America Code 32, Landing gear.

(e) Unsafe Condition

This AD was prompted by an inspection that found several anodic burns on the main landing gear (MLG) bogie beam axles following a high velocity oxygen-fuel stripping process. The FAA is issuing this AD to address the anodic burns on the MLG bogie beam axles. The unsafe condition, if not addressed, could lead to structural failure of the MLG and consequent collapse, possibly resulting in damage to the airplane and injury to the occupants.

(f) Compliance

Comply with this AD within the compliance times specified, unless already done.

(g) Requirements

Except as specified in paragraph (h) of this AD: Comply with all required actions and compliance times specified in, and in accordance with, European Union Aviation Safety Agency (EASA) AD 2024-0156, dated August 13, 2024 (EASA AD 2024-0156).

(h) Exceptions to EASA AD 2024-0156

(1) Where EASA AD 2024-0156 refers to its effective date, this AD requires using the effective date of this AD.

(2) Where EASA AD 2024-0156 defines a serviceable part as “Any MLG bogie beam axle, eligible for installation in accordance with Airbus instructions, that is not an affected part”, for this AD replace that text with “Any MLG bogie beam axle, eligible for installation, that is not an affected part”.

(3) Where paragraph (1) of EASA AD 2024-0156 specifies a compliance time for the replacement, for this AD, do the replacement within 24,000 flight hours or 5,700 flight cycles, whichever occurs first since first installation of the affected part on an airplane, or within 12 months after the effective date of this AD, whichever occurs later.

(4) Where paragraph (1) of EASA AD 2024-0156 specifies “in accordance with the instructions of the SB”, this AD requires replacing that text with “in accordance with the replacement instructions of the SB”.

(5) This AD does not adopt the “Remarks” section of EASA AD 2024-0156.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Dan Rodina, Aviation Safety Engineer, FAA, 2200 South 216th St., Des Moines, WA 98198; telephone 206-231-3225; email dan.rodina@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0156, dated August 13, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on May 29, 2025.
Lona C. Saccomando,
Acting Deputy Director, Integrated Certificate Management Division, Aircraft Certification Service.

[FR Doc. 2025-10319 Filed 6-5-25; 8:45 am]

BILLING CODE 4910-13-P